DEPARTMENT OF THE INTERIOR

National Park Service

[NPS-WASO-NAGPRA-NPS0032654; PPWOCRADN0-PCU00RP14.R50000]

Notice of Inventory Completion: Department of Anthropology, University of South Florida, Tampa, FL

AGENCY: National Park Service, Interior.

ACTION: Notice.

SUMMARY: The Department of Anthropology, University of South Florida has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, University of South Florida. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, University of South Florida at the address in this notice by October 27, 2021.

FOR FURTHER INFORMATION CONTACT: Thomas J. Pluckhahn, Department of Anthropology, University of South Florida, 4202 E Fowler Avenue, SOC 107, Tampa, FL 33620-8100, telephone (813) 549-9742, email tpluckhahn@usf.edu.

SUPPLEMENTARY INFORMATION: Notice is here given in accordance with the Native American Graves Protection and Repatriation Act (NAGPRA), 25 U.S.C. 3003, of the completion of an inventory of human remains under the control of the Department of Anthropology, University of South Florida, Tampa, FL. The human remains were removed from San Bernardino County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Department of Anthropology, University of South Florida professional staff in consultation with representatives of the Agua Caliente Band of Cahuilla Indians of the Agua Caliente Indian Reservation, California; Morongo Band of Mission Indians, California [previously listed as Morongo Band of Cahuilla Mission Indians of the Morongo Reservation]; and the San Manuel Band of Mission Indians, California [previously listed as San Manual Band of Serrano Mission Indians of the San Manual Reservation].

The Augustine Band of Cahuilla Indians, California [previously listed as Augustine Band of Cahuilla Mission Indians of the Augustine Reservation]; Cabazon Band of Mission Indians, California; Cahuilla Band of Indians [previously listed as Cahuilla Band of Mission Indians of the Cahuilla Reservation, California]; Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Colorado River Indian Tribes of the Colorado River Indian Reservation, Arizona and California; Ewiiaapaayp Band of Kumeyaay Indians, California; Fort McDowell Yavapai Nation, Arizona; Iipay Nation of Santa Ysabel, California [previously listed as Santa Ysabel Band of Diegueno Mission Indians of the Santa Ysabel Reservation]; Inaja Band of Diegueno Mission Indians of the Inaja and Cosmit Reservation, California; Jamul Indian Village of California; La Jolla Band of Luiseno Indians, California [previously listed as La Jolla Band of Luiseno Mission Indians of the La Jolla Reservation]; La Posta Band of Diegueno Mission Indians of the La Posta Indian Reservation, California; Los Coyotes Band of Cahuilla and Cupeno Indians, California [previously listed as Los Coyotes Band of Cahuilla & Cupeno Indians of the Los Coyotes Reservation]; Manzanita Band of Diegueno Mission Indians of the Manzanita Reservation, California; Mesa Grande Band of Diegueno Mission Indians of the Mesa Grande Reservation, California; Pala Band of Mission Indians [previously listed as Pala Band of Luiseno Mission Indians of the Pala Reservation, California]; Pauma Band of Luiseno Mission Indians of the Pauma & Yuima Reservation, California; Pechanga Band of Luiseno Mission Indians of the Pechanga Reservation, California; Quechan Tribe of the Fort Yuma Indian Reservation, California & Arizona; Ramona Band of Cahuilla, California [previously listed as Ramona Band or Village of Cahuilla Mission Indians of California]; Rincon Band of Luiseno Mission Indians of Rincon Reservation, California; San Pasqual Band of Diegueno Mission Indians of California; Santa Rosa Band of Cahuilla Indians, California [previously listed as Santa Rosa Band of Cahuilla Mission Indians of the Santa Rosa Reservation]; Soboba Band of Luiseno Indians, California; Sycuan Band of the Kumeyaay Nation; Torres Martinez Desert Cahuilla Indians, California [previously listed as Torres-Martinez Band of Cahuilla Mission Indians of California]; and the Twenty-Nine Palms Band of Mission Indians of California were invited to consult but did not participate. Hereafter, all the above listed Indian Tribes are referred to as “The Consulted and Invited Tribes.”

History and Description of the Remains

At an unknown date, human remains representing, at minimum, one individual were removed from an unknown site most likely located in San Bernardino County, CA. The human remains were acquired by the University of South Florida by way of a donation from the St. Petersburg (Florida) Museum of History, but neither institution has a record of when the human remains were transferred. Records indicate that the human remains were donated to the St. Petersburg Museum of History by Cyrus Belden on January 15, 1966. The human remains are accompanied by a label reading “Skull of Cahuilla Tribe Indian-Morongo Valley California-Tribe now in Palm Canyon, California, G-Cyrus Belden, 1966.” A second label reads “Indian skull from Cahuilla Tribe Morongo Valley and Calif. Now in Palm Canyon Donated by Cyrus Belden St. Petersburg, Fla., and Morongo Valley, Calif 193[?]”. The human remains consist of a single cranium lacking the mandible and teeth in the maxilla. Cranial measurements indicate the individual was male. Comparison of the cranial measurements to modern populations using the FORDISC program returned only a broad affiliation of Native American. Comparison with a standard database of older Native American samples identified as Eskimo, Arikara, Peruvian, and Californian (tied to Native populations of the Channel Islands area), showed that the cranium was most similar to the California group. No known individual was identified. No associated funerary objects are present.

An obituary for “Cyrus L. (Cy) Belden” published in local newspapers in 1974 identifies him as a native of New Jersey and a former resident of St. Petersburg, Florida. Belden was apparently residing in Hudson, New Jersey, in 1942, when he filled out a World War II draft registration card. However, his address on the draft card was marked through, and a handwritten entry updated it to one in Monterey Park, California. Newspaper entries, voter registration records, and city directories place Belden in Long Beach, California, at various dates between 1944 and 1958. He appears to have moved to Florida by 1965. Belden lived in St. Petersburg, Florida, before moving to Tampa three years before his death.

Based on geographical, archeological, oral traditional, and historical lines of evidence, as well as expert opinion, the Agua Caliente Band of Cahuilla Indians of the Agua Caliente Indian Reservation, California and the Morongo Band of Mission Indians, California [previously listed as Morongo Band of Cahuilla Mission Indians of the Morongo Reservation] (hereafter referred to as “The Tribes”) are culturally affiliated with the human remains.

Determinations Made by the Department of Anthropology, University of South Florida

Officials of the Department of Anthropology, University of South Florida have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Thomas J. Pluckhahn, Department of Anthropology, University of South Florida, 4202 E Fowler Avenue, SOC 107, Tampa, FL 33620-8100, telephone (813) 549-9742, email tpluckhahn@usf.edu, by October 27, 2021. After that date, if no additional requestors have come forward, transfer of control of the human remains to The Tribes may proceed.

The Department of Anthropology, University of South Florida is responsible for notifying The Consulted and Invited Tribes that this notice has been published.

Dated: September 21, 2021.
Melanie O'Brien,
Manager, National NAGPRA Program.

[FR Doc. 2021-20912 Filed 9-24-21; 8:45 am]

BILLING CODE 4312-52-P